DEPARTMENT OF COMMERCE

National Oceanic and Atmospheric Administration

[RTID 0648-XB727]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will convene a meeting of the Law Enforcement Advisory Panel (AP).

DATES: The Law Enforcement AP meeting will be held February 10, 2022, from 9 a.m. until 3 p.m.

ADDRESSES:

Meeting address: The meeting will be held at the Town and Country Inn, 2008 Savannah Hwy., Charleston, SC. The meeting is open to members of the public and will be broadcast via webinar as it occurs. Information, including a link to webinar registration, public comment form, and meeting materials will be posted on the Council's website at: https://safmc.net/safmc-meetings/current-advisory-panel-meetings/ as it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Law Enforcement AP will discuss and provide recommendations on fishery management plan amendments under development by the Council and receive updates pertaining to law enforcement of fishery resources in the region.

Special Accommodations

The meeting is physically accessible to people with disabilities. Requests for auxiliary aids should be directed to the Council office (see ADDRESSES) 5 days prior to the meeting.

Note: The times and sequence specified in this agenda are subject to change.

(Authority: 16 U.S.C. 1801 et seq.)

Dated: January 18, 2022.
Tracey L. Thompson,
Acting Deputy Director, Office of Sustainable Fisheries, National Marine Fisheries Service.

[FR Doc. 2022-01193 Filed 1-21-22; 8:45 am]

BILLING CODE 3510-22-P